DEPARTMENT OF TRANSPORTATION

Federal Aviation Administration

Fourth Meeting—Special Committee 222: Inmarsat Aeronautical Mobile Satellite (Route) Services

AGENCY: Federal Aviation Administration (FAA), DOT.

ACTION: Notice of RTCA Special Committee 222: Inmarsat Aeronautical Mobile Satellite (Route) Services meeting.

SUMMARY: The FAA is issuing this notice to advise the public of a meeting of RTCA Special Committee 222: Inmarsat Aeronautical Mobile Satellite (Route) Services.

DATES: The meeting will be held Tuesday, November 17, 2009 from 9 a.m.-5 p.m. and Wednesday, November 18, 2009 from 9 a.m.-5 p.m.

ADDRESSES: Hosted by SkyTerra, Reston, VA. An RSVP to SkyTerra is required by close of business Monday, November 16, 2009; instructions and forms to RSVP, travel directions to SkyTerra, and local hotel accommodations are accessible on the SC-222 Web page or by contacting Mr. Daryl McCall at (319) 739-0858 or dmccall@fastekintl.com.

FOR FURTHER INFORMATION CONTACT: RTCA Secretariat, 1828 L Street, NW., Suite 805, Washington, DC 20036; telephone (202) 833-9339; fax (202) 833-9434; Web site http://www.rtca.org.

Note: Business Casual.

SUPPLEMENTARY INFORMATION: Pursuant to section 10(a)(2) of the Federal Advisory Committee Act (Pub. L. 92-463, 5 U.S.C., Appendix 2), notice is hereby given for a Special Committee 222: Inmarsat Aeronautical Mobile Satellite (Route) Services. The agenda will include:

Tuesday, November 17, 2009 9 a.m. through Wednesday, November 18, 2009

• Opening Plenary (Introductions and Opening Remarks).

• Review and Approval of Summary for the Third Meeting of Special Committee 222 held at the Boeing Longacres Park, Renton, WA; SC-222/WP-028.

• Review and Approval of the Agenda for the Fourth Meeting of SC-222, WP-029.

• Old Business.

• Review of/reports for the currently active Action Items regarding SBB Safety issues.

• Inmarsat: Complete the tables for DO-262 and DO-270 listing in Working Paper WP-4; the action for DO-262 is complete.

• Dr. LaBerge to provide an updated MASPS (DO-270) two weeks prior to the next SC-222 meeting.

• SkyTerra and Inmarsat to jointly outline hypothetical projected schedules for SBB safety rollout and ATCt rollout.

• Roser Roca-Toha and Glenn Torgerson to outline a schedule for updating aircraft equipment once AGCS and RTCA documents are ready.

• All SC-222 attendees are requested to present future papers on thoughts of operations without doing anything to reduce ATCt interference effects.

• Dr. LaBerge and Mr. McCall to provide Orville Nyhus with a schedule for the FRAC process to be included in the minutes of the 3rd Meeting of SC-222.

• Dr. LaBerge and Mr. McCall to finalize details of the location of the next meeting of SC-222 by August 1st.

• Working Papers, Discussions, and Schedule Review regarding ATCt issues.

Note: Working papers posted to the SC-222 Web site on before October 15, 2009 will receive first priority in review. Additional working papers will be reviewed in the order in which they were received. To obtain a new WP number, contact Dr. LaBerge at laberge.engineering@gmail.com. To post a new WP to the website, provide a PDF version to Mr. McCall at dmccall@fastekintl.com, with a copy to Dr. LaBerge.

• SC222/WP-027: Review, discussion and acceptance of detailed work schedule.

• SC222/WP-030: Review of MASPS (DO-270) Updates—Dr. Charles LaBerge.

• SC222/WP-031: Introduction to MOPS (DO-262) Updates—Dr. Charles LaBerge.

• Review of working papers submitted by SC-222 members regarding Agenda Item 4e.

• Projected Schedule for ATCt Rollout—SkyTerra.

• Projected Schedule for SBB Safety Rollout -Inmarsat.

• AIRBUS Projected Aircraft Rollout for SBB Safety—Roser Roca-Toha.

• Boeing Projected Aircraft Rollout for SBB Safety—Glenn Torgerson.

• Other Business.

• Review of Assignments and Action Items.

• Date and Location for the 5th Meeting of SC-222. Tentatively scheduled for Inmarsat, London, England, week of January 18, 2010.

• Closing Plenary (Other Business, Review of Assignments and Action Items, Date and Location for the Fifth Meeting of SC-222. Tentatively scheduled for Inmarsat, London, England, week of January 18, 2010, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 28, 2009.
Francisco Estrada C.,
RTCA Advisory Committee.

[FR Doc. E9-23894 Filed 10-2-09; 8:45 am]

BILLING CODE 4910-13-P